DEPARTMENT OF HOMELAND SECURITY

Coast Guard

33 CFR Parts 140, 143, and 146

46 CFR Parts 61 and 62

[Docket No. USCG-2014-0063]

RIN 1625-AC16

Requirements for MODUs and Other Vessels Conducting Outer Continental Shelf Activities With Dynamic Positioning Systems; Training Certification Programs

AGENCY: Coast Guard, DHS.

ACTION: Notice of availability of dynamic positioning training certification programs.

SUMMARY: The Coast Guard is providing the following information on dynamic positioning training certification programs.

DATES: July 29, 2016.

FOR FURTHER INFORMATION CONTACT: For information about this document, call Ms. Mayte Medina, U.S. Coast Guard, 202-372-1492

SUPPLEMENTARY INFORMATION: On November 28, 2014, the Coast Guard published in the Federal Register a Notice of Proposed Rulemaking (NPRM) on Requirements for MODUs and Other Vessels Conducting Outer Continental Shelf Activities With Dynamic Positioning Systems (Docket No. USCG-2014-0063, RIN 1625-AC16) (79 FR 70943). The NPRM proposes to establish minimum design, operation, training, and manning standards for mobile offshore drilling units and other vessels using dynamic positioning systems to engage in Outer Continental Shelf activities. The Coast Guard has not yet published a final rule on this subject.

Since the comment period closed, the Coast Guard has received inquiries regarding availability of dynamic positioning training certification programs. We are aware of three industry accepted training certification programs for dynamic positioning:

• The Offshore Service Vessel Dynamic Positioning Authority's (OSVDPA) MPP-1-001, the OSVDPA's Manual of Policies and Procedures (Version 1) (January 2016);

• The Nautical Institute's Dynamic Positioning Operator's Training and Certification Scheme Version 1.1 (January 2015); and,

• Det Norske Veritas/Germanischer Lloyd's Recommended Practice for Certification Scheme for Dynamic Positioning Operators (DNVGL-RP-0007).

The Coast Guard is providing this information to assist the public in locating dynamic positioning training certification programs, and does not endorse or recommend any such program. To the extent that programs not listed above may exist, their absence from the list is due entirely to the fact that the Coast Guard is unaware of them, and does not constitute or imply a determination that programs on the list are preferable to any that may exist and are not included on the list.

This document is issued under authority of 5 U.S.C. 552(a).

Dated: July 26, 2016.
J.G. Lantz,
Director of Commercial Regulations and Standards, United States Coast Guard.

[FR Doc. 2016-18036 Filed 7-28-16; 8:45 am]

BILLING CODE 9110-04-P